NUCLEAR REGULATORY COMMISSION

[Docket No.: 030-14784]

U.S. Army Chemical School, Fort McClellan, Alabama; Notice of Intent To Amend Byproduct Materials License for the Former U.S. Army Chemical School Facilities in Fort McClellan, Alabama, Environmental Assessment, Finding of No Significant Impact, and Opportunity for Hearing

AGENCY: Nuclear Regulatory Commission.

ACTION: Notice of intent.

SUMMARY: The U.S. Nuclear Regulatory Commission (hereafter referred to as NRC staff) is considering issuance of a license amendment to Nuclear Materials License No. 01-02861-05, issued to the Department of the Army's Chemical School, to authorize decommissioning of a radioactive waste burial mound located at the Pelham Range at Fort McClellan, Alabama.

This amendment would involve the approval of the Remediation (Decommissioning) Plan for the Department of the Army's Fort McClellan Pelham Range Burial Mound, Fort McClellan, Alabama, dated September 9, 1999. The Army is obligated to remediate the Fort McClellan site to meet the release criteria in 10 CFR 20, Subpart E (NRC, 1997).

Based on our evaluation of the Army's Fort McClellan Remediation (Decommissioning) Plan, NRC staff has determined that the proposed plan complies with NRC's public and occupational dose and effluent limits, and that authorizing the proposed activities would not be a major Federal action significantly affecting the quality of the human environment. NRC staff concludes that a Finding of No Significant Impact is justified and appropriate, and that an environmental impact statement is not required.

Introduction

On July 23, 1998, the Army's Material License No. 01-02861-05 was amended to include cesium 137 (Cs-137) and cobalt 60 (Co-60) waste contained in a burial mound located at Rideout Field, Pelham Range, Area 24C at Fort McClellan, Alabama. The Army requested this amendment based on a characterization study completed in January 1996. The study consisted of walkover surface scans, hole logging and sample analysis. The Army obtained 571 systematic random and biased samples and analyzed them for radiological parameters by gamma spectroscopy. The analysis supported the conclusion that the mound was contaminated with Cs-137 and Co-60 waste from previously licensed activities at the base.

The Co-60 concentration varied between 1.6 and 187 pCi/g for the surface samples and from 0 to 330 pCi/g for sub-surface samples. The Cs-137 samples varied from 0.2 to 179 pCi/g for the surface samples and from 0 to 12 pCi/g for the sub-surface samples. One sample contained an individual Co-60 spec with a mass of 0.0043 grams and an activity of 243,000 pCi.

Pelham Range consists of approximately 22,000 acres of land west of the main post, which is located adjacent to Anniston, Alabama. One of the uses of the Pelham Range was as a radiological training area for simulated large area radioactive contamination (fallout) from the surface detonation of a small yield nuclear weapon. The training concept involved the raising and lowering of sealed radioactive sources. Students would then perform ground and aerial surveys to map the fallout pattern. This training occurred from the mid 1950s through May of 1973. The Army used locally fabricated Co-60 sources and higher activity commercially produced Cs-137 sources. A number of leaking locally fabricated Co-60 sources contributed to the formation of the burial mound.

The Army Base Closure and Realignment Committee has identified Fort McClellan as an installation for closure. The remediation of the burial mound is one of several radiological issues that must be resolved prior to the termination of the materials license and final base closure.

Proposed Action

The Army is proposing to collect the radiologically contaminated materials from the Pelham Range burial mound. The Army intends to remediate the site to the NRC criteria for unrestricted use delineated in 10 CFR 20, Subpart E, that being 25 mrem/year TEDE to the critical group. For the Pelham Range site, this was modeled for a residential family (i.e., the critical group) which occupies the land and operates it as a self-sustaining farm.

The Army modeled the future residential farm scenario using site specific environmental parameters to determine acceptable clean up levels using the Residual Radioactivity (RESRAD) computer code. The model calculated acceptable cleanup levels of 2.3 pCi/g of Co-60 and 9.2 pCi/g of Cs-137. These represent the maximum average acceptable contaminant levels that will meet the NRC's release criteria. In addition, the Army will operate under the concept of As Low As Reasonable Achievable (ALARA). After reviewing the site characterization data and considering the sensitivity of available field instrumentation, by applying ALARA, the predicted average concentrations after decommissioning will be approximately 0.1 pCi/g of Co-60 and approximately 0.1 pCi/g of Cs-137.

The general decommissioning outline is as follows:

1. Clear all brush from the burial mound area.

2. Reestablish the survey grid system.

3. Identify the contaminated areas within the remediation parameters.

4. Remove the soil/sand which contains the radioactivity.

5. Survey the area to ensure remediation was successful.

6. Remove any residual activity discovered after excavation.

7. Package and prepare radioactive material for shipment.

8. Complete the final survey of the remediated mound for release.

9. Ship radioactive material for disposal.

During the remediation process, the Army will obtain sufficient water samples to characterize the groundwater in the area to ensure that no contamination is present in the groundwater.

The Army plans to package and ship the radiologically contaminated material offsite to the Envirocare facility in Clive, UT. Envirocare is a licensed low-level waste disposal site. The Army will perform a 100-percent surface survey of the remaining soil in and around the Pelham Range burial mound.

The Army expects to generate approximately 392 cubic meters (498 cubic yards) of low-level radioactive waste that they will ship offsite for disposal. Roll-on, roll-off containers with hard covers and six mil plastic liners will be used for shipment to the disposal site. As each container is filled it will be readied for shipment. Each container will be covered and sealed before it leaves the site after the exterior surfaces are surveyed and found to be free of loose contamination.

The Army plans to transport the sealed containers by truck to the nearby rail spur. At the rail spur, the Army plans to load the containers onto railcars for transport to the Envirocare disposal facility, in Clive, Utah. The Army is committed to shipments complying with NRC and DOT package and shipping requirements.

The Army estimates that the maximum expected exposure rate on the exterior surface of the waste shipping containers will be 0.5 milliroentgen/hour (mR/hr); the maximum dose to the onsite worker from this proposed activity will be 0.03 millisieverts (mSv) [3 millirem (mrem)] and the maximum dose to a member of the public from the transportation of this material will be less than 0.01 mSv (1 mrem).

The Need for the Proposed Action

Fort McClellan is being closed under Base Relocation and Closure (BRAC) and will be turned over to the State of Alabama for unrestricted use. The proposed action is necessary to reduce residual contamination at the site to meet NRC's unrestricted release criteria.

Alternative to Proposed Action

The alternatives to the proposed action are releasing the area under a restricted release condition or taking no action.

The restricted release option under NRC guidelines would require the Army to implement institutional controls to limit the future land use for the decommissioned grounds. The intended future land use (and current use) is for training of Army National Guard troops. This training does and will include the use of tanks, which can disturb the contaminated area and lead to the spread of the contamination. The Army has decided that decommissioning the grounds to unrestricted release conditions would be a better and more cost effective approach.

Taking no action conflicts with NRC's requirement, in 10 CFR 40.42, of timely remediation at sites that have ceased NRC licensed operations. Although there is no immediate threat to the public health and safety from this site, not undertaking remediation, at this time, does not resolve the regulatory and potential long-term health and safety problems involved in storing this waste. No action now would delay remediation until some time in the future, when costs could be much higher than they are today. It is even possible that no disposal option will be available in the future if the current low-level radioactive waste disposal facilities are closed and no new ones are opened.

Environmental Impacts of Proposed Action

There are limited potential short-term environmental impacts associated with the proposed decommissioning activities. These include the potential release to the environment of airborne and liquid effluents, which may contain low levels of radioactive contamination during certain activities such as excavation, packaging, and waste transportation. NRC regulation 10 CFR Part 20 specifies the maximum allowable amounts of radioactive materials that a licensee can release from a site in the form of either airborne or liquid effluents.

The NRC will require the Army to comply with these regulations. The Army has established action levels that will ensure that effluent releases during decommissioning activities are below the levels allowed by Part 20.

The Army has committed to implementing a contamination monitoring and control program to detect and minimize the spread of contamination. Contamination monitoring will be accomplished by: (1) Performing all site remediation work under a Radiation Work Permit system, (2) conducting routine radioactivity surveys, (3) use of access controls to prevent inadvertent personnel access to contaminated areas, (4) use of personal protection, (5) surveying and decontaminating all personnel, equipment and vehicles before they leave the work site, and (6) employee training.

The Army will minimize the potential for airborne effluent releases by having a water truck available to suppress dust during activities that could generate significant quantities of dust. Activities that could generate significant quantities of dust include the excavation of the waste, processing and packaging of the waste, as well as during conveyor system screening and sampling operations. The Army will implement an environmental air monitoring program. Specifically, they will collect air samples in the breathing zone of workers during work that may produce airborne contamination, and they will position low volume air samplers downwind of the work area.

If airborne activities exceed 50-percent of the Derived Airborne Concentration (DAC) from Appendix B of the Code of Federal Regulations (CFR) Title 10, Part 20, the Army will:

(a) Implement dust-control measures;

(b) Cease all work activities;

(c) Investigate the cause for the airborne activity;

(d) Document all findings and measurements;

(e) Implement corrective actions before proceeding with decommissioning activities.

There are no expected adverse impacts to air quality as a result of planned decommissioning activities. There will a slight increase in dust emissions during the removal of the contaminated sand/soil; however, the burial mound is in a remote area of the installation and will not have an adverse impact on the ambient air quality. There is little likelihood that airborne radioactive material will be a problem on the range during any operation conducted for the remediation. The maximum general area dose rate for the Pelham Range Burial Mound is 11.7 uR/hour at 1-meter above ground. All Army site workers will wear personnel dosimetry devices. Based on the Army's calculations, the highest expected dose to an onsite worker is 30 mSv (3 mrem) (i.e., 11.7 uR/hour x 250 worker-hours). The Army has determined that no immediate threat to public health and safety exists. The Army will monitor all potential exposure pathways, and exposure from each pathway will be kept as low as is reasonably achievable, during decommissioning activities.

Pelham Range workers not expected to receive an occupational dose as defined by 10 CFR 20.1502 and members of the public are expected to receive less than 10 mSv (1 mrem) from all exposure pathways as a result of decommissioning activities.

The proposed decommissioning action will have a positive environmental impact on the water quality in the area since low-level radioactive contamination will be removed from the soil above the aquifer. The Pelham Range Burial Mound is not located in the flood plain of any stream or river. There are no wetlands located in the project area. There will be no water bodies diverted in order to decontaminate the burial mound.

This action will not have an adverse impact on future land use. Ft. McClellan has used the Pelham Range Burial Mound to store the radioactive contamination for several years. The removal of the radioactive contaminated soil will be a beneficial environmental impact.

The radioactive material will be packaged, handled and stored according to the appropriate health and safety procedures. Packaging contaminated soil shall conform to Department of Transportation (DOT) regulations and the disposal site requirements. The Army will ship the waste in accordance with all DOT, State and Low Level Radioactive Waste Compact Commission regulations.

There will be no significant/prolonged periods of increased noise levels. The decommissioning activities will generate some elevated sound levels for a 6-8 week period. The elevated noise will come from the operation of heavy machinery and electrical generators. The noise from these activities is not expected to significantly impact the wildlife or the general public.

There is no adverse impact expected on cultural resources. The project will consist of the sampling and removal of radiologically contaminated materials that the Army placed in the mound within the past few decades. The likelihood of encountering any artifacts in the area is remote.

NRC staff conducted an evaluation of the potential for environmental justice issues due to low income populations. Based on the staff's evaluation, it is concluded that the Pelham Range site does not have an environmental justice potential because of its isolated location, there are no disproportionately high minority or low-income populations.

Agencies and Individuals Consulted

This environmental assessment was prepared by NRC staff and coordinated with the following agencies: the State of Alabama Department of Public Health, the U.S. Fish and Wildlife Service, and the Alabama Historical Commission. These agencies had no objection with the proposed action. No other sources were used beyond those referenced in this environmental assessment.

Conclusions

Decommissioning of the site to the cleanup levels proposed for this action will result in reduced residual contamination levels in the burial mound, enabling release of the area for unrestricted use and termination of the radioactive materials license. No radiologically contaminated effluents are expected during the decommissioning. Occupational doses to decommissioning workers are expected to be low and well within the limits of 10 CFR Part 20. No radiation exposure to any member of the public is expected, and public exposure will therefore also be less than the applicable public exposure limits of 10 CFR Part 20. Therefore, the environmental impacts from the proposed action are expected to be insignificant.

References

NRC, “Radiological Criteria for License Termination”, 10 CFR Part 20, Subpart E, 62 FR 139, July 21, 1997

NRC, “Multi-Agency Radiation Survey and Site Investigation Manual, (MARSSIM), NUREG-1575, December 1997

NRC, Draft “Manual for Conducting Radiological Surveys in Support of License Termination”, NUREG/CR-5849, June 1992

NRC, “Guidelines for Decommissioning of Facilities and Equipment Prior to Release for Unrestricted Use or Termination of Licenses for By-product, Source or Special Nuclear Material”, May 3, 1973

NRC, “NMSS Handbook for Decommissioning Fuel Cycle and Materials Licensees” March 1997

U.S. Army, Phase II, Burial Mound Decommissioning Plan, February 1999

U.S. Army, Draft Environmental Assessment For The Proposed Decommissioning of The Ft. McClellan Pelham Range Burial Mound, October 8, 1999

Finding of No Significant Impact

Pursuant to 10 CFR Part 51, NRC has prepared this EA in support of the proposed amendment related to the approval of the Army's Fort McClellan Pelham Range Burial Mound Remediation (Decommissioning) Plan. On the basis of the EA, the Commission has concluded that this licensing action will not significantly affect the quality of the human environment and has determined not to prepare an Environmental Impact Statement.

Accordingly, it has been determined that a Finding of No Significant Impact is appropriate.

The documents related to this proposed action are publicly available.

Opportunity for a Hearing

The NRC hereby provides notice that this is a proceeding on an application for amendment of a license falling within the scope of Subpart L “Informal Hearing Procedures for Adjudication in Materials Licensing Proceedings,” of NRC's rules and practices for domestic licensing proceedings in 10 CFR Part 2. Pursuant to § 2.1205(a), any person whose interest may be affected by this proceeding may file a request for a hearing in accordance with § 2.1205(a). A request for hearing must be filed within thirty (30) days of the date of publication of this Federal Register notice.

The request for a hearing must be filed with the Office of the Secretary either:

1. By delivery to the Docketing and Service Branch of the Secretary at One White Flint North, 11555 Rockville Pike, Rockville, MD 20852-2738; or

2. By mail or telegram addressed to the Secretary, U.S. Nuclear Regulatory Commission, Washington, DC 20555. Attention: Docketing and Service Branch.

In addition to meeting other applicable requirements of 10 CFR Part 2 of the NRC's regulations, a request for a hearing filed by a person other than the applicant must describe in detail:

1. The interest of the requester in the proceeding;

2. How that interest may be affected by the results of the proceeding, including the reasons why the requestor should be permitted a hearing, with particular reference to the factors set out in § 2.1205(g); and

3. The requester's areas of concern about the licensing activity that is the subject matter of the proceeding; and

4. The circumstances establishing that the request for a hearing is timely in accordance with § 2.1205(c).

In accordance with 10 CFR 2.1205(e) each request for a hearing must also be served, by delivering it personally or by mail, to:

1. The applicant, U.S. Army Chemical School, Attn: ATSN-CM, 401 Engineer Loop, Ft. Leonard Wood, MO 65473-8928, Attention: Commandant; and

2. The NRC staff, by delivery to the Executive Director for Operations, One White Flint North, 11555 Rockville Pike, Rockville, MD 20852, or by mail, addressed to the Executive Director for Operations, U.S. Nuclear Regulatory Commission, Washington, DC 20555.

For further details with respect to this action, the site decommissioning plan will be available for review on the NRC's Public Electronic Reading Room.

Dated at Atlanta, Georgia, this 18th day of December 2000.
For the Nuclear Regulatory Commission.
Douglas M. Collins,
Director, Division of Nuclear Materials Safety.

[FR Doc. 01-228 Filed 1-3-01; 8:45 am]

BILLING CODE 7590-01-P